DEPARTMENT OF TRANSPORTATION

Office of the Secretary

Notice of Applications for Certificates of Public Convenience and Necessity and Foreign Air Carrier Permits Filed Under Subpart B (Formerly Subpart Q) During the Week Ending April 2, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0067.

Date Filed: March 28, 2011.

Due Date for Answers, Conforming Applications, or Motion to Modify Scope: April 18, 2011.

Description: Application of PrivaJet Ltd (“PrivaJet”) requesting an exemption and a foreign air carrier permit permitting PrivaJet to conduct charter foreign air transportation of persons, property, and mail to the full extent authorized by the Air Transport Agreement between the United States and the European Community and the Member States of the European Community (“U.S.-E.U. Agreement”). PrivaJet requests authority to the extent necessary for it to engage in: (i) Charter foreign air transportation of persons, property, and mail between any point or points behind any Member State of the European Union via any point or points in any Member State and via intermediate points to any point or point in the United States or beyond; (ii) charter foreign air transportation of persons, property, and mail between any point or points in the United States and any point or points in any Member of the European Common Aviation Area; (iii) other charters pursuant to the prior approval requirements; and (iv) transportation authorized by any additional route rights that may be made available to European Union carriers in the future. PrivaJet also requests an exemption to the extent necessary to enable it to provide the service described above pending issuance of PrivaJet's foreign air carrier permit and such other relief as the Department may deem necessary or appropriate.

Docket Number: DOT-OST-2011-0068.

Date Filed: March 29, 2011.

Due Date for Answers, Conforming Applications, or Motion to Modify Scope: April 19, 2011.

Description: Application of American Eagle Airlines, Inc. requesting a certificate of public convenience and necessity authorizing scheduled foreign air transportation of person, property, and mail from a point or points in the United States, via intermediate points, to a point or points in any open skies country.

Docket Number: DOT-OST-2011-0073.

Date Filed: April 1, 2011.

Due Date for Answers, Conforming Applications, or Motion to Modify Scope: April 22, 2011.

Description: Application of Orange Air, LLC requesting a certificate of public convenience and necessity authorizing Orange Air to engage in interstate charter air transportation of persons, property and mail.

Docket Number: DOT-OST-2011-0074.

Date Filed: April 1, 2011.

Due Date for Answers, Conforming Applications, or Motion to Modify Scope: April 22, 2011.

Description: Application of Orange Air, LLC requesting a certificate of public convenience and necessity authorizing Orange Air to engage in foreign charter air transportation of persons, property, and mail between any place in the United States and any place outside thereof.

Renee V. Wright,
Program Manager, Docket Operations, Federal Register Liaison.

[FR Doc. 2011-9162 Filed 4-14-11; 8:45 am]

BILLING CODE 4910-9X-P